DEPARTMENT OF HEALTH AND HUMAN SERVICES

Administration for Children and Families

Submission for OMB Review; ACF Performance Progress Report, ACF-OGM-SF-PPR-B (OMB #0970-0406)

AGENCY: Office of Grants Management, Administration for Children and Families, HHS.

ACTION: Request for public comment.

SUMMARY: The Office of Grants Management (OGM), in the Administration for Children and Families (ACF) is requesting a 3-year extension of the form ACF-OGM-SF-PPR-B (OMB #0970-406, expiration 11/30/2022). There are minor changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: ACF's OGM is proposing the continued collection of program performance data for ACF's discretionary grantees using the existing ACF-OGM-SF-PPR-B (OMB #0970-0406, expiration 11/30/2022) form with minor changes to improve the function of the form. Revisions include collection of the Unique Entity Identifier instead of the Data Universal Numbering System, a rewording of the submission instructions to be more inclusive of all possible report submission methods utilized across ACF, and the addition of a program indicator to collect information on activities recipients conducted during the reporting period to address or advance equity. The form, developed by OGM, was created from the basic template of the OMB-approved reporting format of the Program Performance Report. OGM uses this data to ensure grantees are proceeding in a satisfactory manner in meeting the approved goals and objectives of the project and if funding should be continued for another budget period.

OMB grants policy requires grantees to report on performance. Specific citations are contained in 45 CFR part 75 Uniform Administrative Requirements, Cost Principles, and Audit Requirements for HHS Awards.

Respondents: All ACF discretionary grantees. State governments, Native American Tribal governments, Native American Tribal Organizations, local governments, universities, and nonprofits with or without 501(c)(3) status with the IRS.

Annual Burden Estimates
Instrument | Total number of respondents | Annual number of responses per respondent | Average burden hours per response | Annual burden hours
ACF-OGM-SF-PPR-B | 6,000 | 2 | 1 | 12,000

Estimated Total Annual Burden Hours: 12,000.

Authority: 45 CFR part 75.

Mary B. Jones,
ACF/OPRE Certifying Officer.

[FR Doc. 2022-15940 Filed 7-25-22; 8:45 am]

BILLING CODE 4184-01-P